DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2005 Client/Patient Sample Survey—New

The Substance Abuse and Mental Health Services Administration (SAMHSA), Center for Mental Health Services (CMHS) will conduct a sample survey of mental health programs (i.e., inpatient, residential, and less than 24-hour care) within specialty mental health organizations. These organizations include psychiatric hospitals, general hospitals with separate psychiatric services, multiservice mental health organizations, residential treatment centers, and freestanding outpatient clinics and partial care organizations.

A sample of approximately 2,500 mental health organizations/programs will provide information on an average sample of 8 admissions and 8 persons under care in the programs. National estimates will be generated on the number of persons admitted to and under care in these organizations, and on the sociodemographic, clinical, and service use characteristics of these persons. This survey will update a previous sample survey conducted in 1997 (OMB No. 0930-0114).

In addition, the 2005 survey will include a consumer survey for the sampled adults under care in the less than 24-hour programs to obtain consumers' perceptions of care received. Respondents will have the option of responding electronically.

The annual burden estimate is shown below:

Respondent | No. of respondents | No. of responses per respondent | Average burden/response (hrs.) | Total annual burden (hrs.)
Mental Health Organization/Program | 2,500 | 1 | 5.25 | 13,125
Consumer | 8,000 | 1 | 0.25 | 2,000
Total | 10,500 |  |  | 15,125

Send comments to Summer King, SAMHSA Reports Clearance Officer, Room 7-1044, 1 Choke Cherry Road, Rockville, MD 20850. Written comments should be received by June 27, 2005.

Dated: April 12, 2005.
Anna Marsh,
Executive Officer, SAMHSA.

[FR Doc. 05-8275 Filed 4-25-05; 8:45 am]

BILLING CODE 4162-20-P